DEPARTMENT OF ENERGY

Federal Energy Regulatory Commission

Errata Notice

December 3, 2004.

Symbiotics, LLC: Project No. 11978-002

Symbiotics, LLC: Project No. 12037-001

Prosser Creek Hydro, LLC: Project No. 12191-001

McCloud Hydro, LLC: Project No. 12195-001

Gillham Hydro, LLC: Project No. 12226-001

Nimrod Hydro, LLC: Project No. 12237-001

San Jacinto Hydro, LLC: Project No. 12242-001

Spavinaw Hydro, LLC: Project No. 12243-001

Great Salt Plains, LLC: Project No. 12263-001

Wappapello Hydro, LLC: Project No. 12268-001

GV Montgomery Hydro, LLC: Project No. 12277-001

KR 6 Hydro, LLC: Project No. 12278-001

Wilkins Hydro, LLC: Project No. 12281-001

Huntington Hydro, LLC: Project No. 12294-001

Rough River Hydro, LLC: Project No. 12364-002

Coralville Hydro, LLC: Project No. 12417-001

On December 1, 2004, the Commission issued a “Notice of Surrender of Preliminary Permits” on December 1, 2004, in the above-referenced docket numbers. This Errata Notice corrects the project number for Gillham Hydro, to read: Project No. 12226-001.

This correction is reflected in the caption above.

Magalie R. Salas,
Secretary.

[FR Doc. E4-3666 Filed 12-14-04; 8:45 am]

BILLING CODE 6717-01-P